FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 001792-005

Title: New Orleans/New Orleans Cold Storage Terminal Agreement

Parties:

The Board of Commissioners of the Port of New Orleans

New Orleans Cold Storage and Warehousing Company, Ltd.

Synopsis: The proposed amendment amends the demise of the property covered by the lease. The term of the lease still runs until April 30, 2005.

Agreement No.: 011502-003

Title: NYK/HUAL Space Charter and Cooperative Working Agreement

Parties:

HUAL A/S

Nippon Yusen Kaisha

Synopsis: The proposed modification changes HUAL's address, adds the trade from Japan and Korea to U.S. Atlantic, Gulf and Pacific ports, and limits the outbound scope to the trade from U.S. Atlantic and Gulf ports to Red Sea and Arabian Gulf ports.

By order of the Federal Maritime Commission.
Dated: June 22, 2001.
Bryant L. VanBrakle,
Secretary.

[FR Doc. 01-16166 Filed 6-26-01; 8:45 am]

BILLING CODE 6730-01-P